DEPARTMENT OF THE INTERIOR

National Park Service

[NPS-WASO-NAGPRA-NPS0039317; PPWOCRADN0-PCU00RP14.R50000]

Notice of Inventory Completion: No Man's Land Museum, Goodwell, OK

AGENCY: National Park Service, Interior.

ACTION: Notice.

SUMMARY: In accordance with the Native American Graves Protection and Repatriation Act (NAGPRA), the No Man's Land Museum has completed an inventory of human remains and associated funerary objects and has determined that there is no lineal descendant and no Indian Tribe or Native Hawaiian organization with cultural affiliation.

DATES: Upon request, repatriation of the human remains and associated funerary objects in this notice may occur on or after February 18, 2025.

ADDRESSES: Sue Weissinger, No Man's Land Museum, 214 E Avenue, Goodwell, OK 73939, telephone (580) 349-2670, email nmlhs@outlook.com.

SUPPLEMENTARY INFORMATION: This notice is published as part of the National Park Service's administrative responsibilities under NAGPRA. The determinations in this notice are the sole responsibility of the No Man's Land Museum, and additional information on the determinations in this notice, including the results of consultation, can be found in its inventory or related records. The National Park Service is not responsible for the determinations in this notice.

Abstract of Information Available

Human remains representing, at least, one individual have been identified. The six associated funerary objects are five harrell points and one stone knife blade. The individual was excavated by an unknown party on the Sprowles Ranch near Cheyenne, Oklahoma in Roger Mills County and loaned to the No Man's Land Museum on January 22, 1965. It was in a cairn as evidenced by two photographs that were loaned along with five Harrell points and one stone knife blade.

Human remains representing, at least, one individual have been identified. The one associated funerary object is horse bones. The individual was excavated one mile west and one-half mile south of Four Corners on Highway 64 in Texas County, Oklahoma. It was loaned to the No Man's Land Museum on August 10, 1936.

Human remains representing, at least, one individual have been identified. No associated funerary objects are present. The individual adult was removed from a site near Felt, Cimarron County, Oklahoma and donated on May 4, 1974.

It is unknown if harmful substances were used.

Consultation

Invitations to consult were sent to the Apache Tribe of Oklahoma; Cheyenne and Arapaho Tribes, Oklahoma; Comanche Nation, Oklahoma; The Osage Nation; and the Wichita and Affiliated Tribes (Wichita, Keechi, Waco, & Tawakonie), Oklahoma. The Cheyenne and Arapaho Tribes, Oklahoma; Comanche Nation, Oklahoma; The Osage Nation; and the Wichita and Affiliated Tribes (Wichita, Keechi, Waco, & Tawakonie), Oklahoma agreed to consult. The Quapaw Nation declined to comment.

Cultural Affiliation

The following types of information about the cultural affiliation of the human remains and associated funerary objects in this notice are available: anthropological, archaeological, geographical, and expert opinion. The information, including the results of consultation, identified:

1. No earlier group connected to the human remains or associated funerary object.

2. No Indian Tribe or Native Hawaiian organization connected to the human remains or associated funerary objects.

3. No relationship of shared group identity between the earlier group and the Indian Tribe or Native Hawaiian organization that can be reasonably traced through time.

Determinations

The No Man's Land Museum has determined that:

• The human remains described in this notice represent the physical remains of three individuals of Native American ancestry.

• The seven objects described in this notice are reasonably believed to have been placed intentionally with or near individual human remains at the time of death or later as part of the death rite or ceremony.

• No known lineal descendant who can trace ancestry to the human remains and associated funerary objects in this notice has been identified.

• No Indian Tribe or Native Hawaiian organization with cultural affiliation to the human remains and associated funerary objects in this notice has been clearly or reasonably identified.

Requests for Repatriation

Written requests for repatriation of the human remains and associated funerary objects in this notice must be sent to the authorized representative identified in this notice under ADDRESSES. Requests for repatriation may be submitted by any lineal descendant, Indian Tribe, or Native Hawaiian organization who shows, by a preponderance of the evidence, that the requestor is a lineal descendant or an Indian Tribe or Native Hawaiian organization with cultural affiliation.

Upon request, repatriation of the human remains and associated funerary objects described in this notice may occur on or after February 18, 2025. If competing requests for repatriation are received, the No Man's Land Museum must determine the most appropriate requestor prior to repatriation. Requests for joint repatriation of the human remains and associated funerary objects are considered a single request and not competing requests. The No Man's Land Museum is responsible for sending a copy of this notice to any consulting lineal descendant, Indian Tribe, or Native Hawaiian organization.

Authority: Native American Graves Protection and Repatriation Act, 25 U.S.C. 3003, and the implementing regulations, 43 CFR 10.10.

Dated: January 6, 2025.
Melanie O'Brien,
Manager, National NAGPRA Program.

[FR Doc. 2025-01010 Filed 1-15-25; 8:45 am]

BILLING CODE 4312-52-P